DEPARTMENT OF LABOR

Employment and Training Administration

Determinations Regarding Eligibility To Apply for Trade Adjustment Assistance

In accordance with Sections 223 and 284 (19 U.S.C. 2273 and 2395) of the Trade Act of 1974 (19 U.S.C. 2271, et seq.) (“Act”), as amended, the Department of Labor herein presents summaries of determinations regarding eligibility to apply for trade adjustment assistance under Chapter 2 of the Act (“TAA”) for workers by (TA-W) issued during the period of March 1, 2022 through March 31, 2022.

This notice includes summaries of initial determinations such as Affirmative Determinations of Eligibility, Negative Determinations of Eligibility, and Determinations Terminating Investigations of Eligibility within the period. If issued in the period, this notice also includes summaries of post-initial determinations that modify or amend initial determinations such as Affirmative Determinations Regarding Applications for Reconsideration, Negative Determinations Regarding Applications for Reconsideration, Revised Certifications of Eligibility, Revised Determinations on Reconsideration, Negative Determinations on Reconsideration, Termination Determinations on Reconsiderations, Revised Determinations on Remand, and Negative Determinations on Remand.

Affirmative Determinations for Trade Adjustment Assistance

The following certifications have been issued.

TA-W-No. | Subject firm | Location | Reason(s)
96,825 | Geater Machining & Manufacturing, Co | Independence, IA | Secondary Component Supplier.
96,876 | TD Bank, N.A | Mount Laurel, NJ | Shift in Services to a Foreign Country.
96,876A | TD Bank, N.A | Mount Laurel, NJ | Shift in Services to a Foreign Country.
96,876B | TD Bank, N.A | Mount Laurel, NJ | Shift in Services to a Foreign Country.
96,965 | ON Semiconductor | Gresham, OR | Shift in Production to a Foreign Country.
97,051 | Hess Corporation | Minot, ND | Customer Imports of Articles.
97,064 | Never Again Industries LLC | Chesapeake, VA | Imports of Finished Articles Containing Like or Directly Competitive Components.
97,108 | Gannett Co., Inc | McLean, VA | Shift in Services to a Foreign Country.
98,042 | FCA US LLC, Belvidere Assembly Plant | Belvidere, IL | Increased Company Imports.
98,070 | eSchool Data | Bohemia, NY | Actual/Likely Increase in Imports following a Shift Abroad.
98,096 | Evergreen Packaging LLC | Pine Bluff, AR | Increased Customer Imports.
98,129 | Plexus Corp | Nampa, ID | Shift in Production to an FTA Country or Beneficiary.
98,136 | Tenneco Inc | Kettering, OH | Shift in Production to an FTA Country or Beneficiary.
98,158 | The Hain Celestial Group, Inc | Ashland, OR | Increased Customer Imports.
98,158A | The Hain Celestial Group, Inc | Ashland, OR | Increased Customer Imports.
98,163 | Hexcel Corporation | Kent, WA | Upstream Supplier.
98,165 | Safariland, LLC | Ontario, CA | Shift in Production to an FTA Country or Beneficiary.
98,167 | Dekko, ECA (Electri-Cable Assemblies) Division | Shelton, CT | Shift in Production to an FTA Country or Beneficiary.
98,168 | The Hain Celestial Group, Inc | Lake Success, NY | Increased Customer Imports.
98,182 | Electrolux Home Products, Inc | Memphis, TN | Shift in Production to an FTA Country or Beneficiary.
98,189 | Legendary Headwear, LLC | San Diego, CA | Shift in Production to an FTA Country or Beneficiary.
98,190 | FormFactor, Inc | Beaverton, OR | Actual/Likely Increase in Imports following a Shift Abroad.
98,203 | East West Manufacturing | El Paso, TX | Shift in Production to an FTA Country or Beneficiary.
98,219 | BCS Automotive Interface Solutions LLC | Galesville, WI | Shift in Production to an FTA Country or Beneficiary.
98,229 | Permasteelisa North America | Windsor, CT | Shift in Production to an FTA Country or Beneficiary.

Negative Determinations for Trade Adjustment Assistance

The following investigations revealed that the eligibility criteria for TAA have not been met for the reason(s) specified.

TA-W No. | Subject firm | Location | Reason(s)
96,955 | Genesis Alkali LLC, a subsidiary of Genesis Energy LP | Green River, WY | No Shift in Production or Other Basis.
96,962 | New Hampshire Industries | Claremont, NH | No Sales or Production Decline or Other Basis.
97,011 | Biodex Medical Systems, Inc | Shirley, NY | No Shift in Production or Other Basis.
97,011A | Biodex Medical Systems, Inc | Shirley, NY | No Shift in Production or Other Basis.
97,023 | Berg Pipe Panama City Corporation | Panama City, FL | No Shift in Production or Other Basis.
97,077 | The George Washington University Medical Faculty Associates | Washington, DC | No Shift in Services or Other Basis.
98,014 | Mosaic Company, Uncle Sam Plant | Convent, LA | No Import Increase and/or Production Shift Abroad.
98,014A | The Mosaic Company, Faustina Plant | Donaldsonville, LA | No Employment Decline.
98,071 | Green Valley Pecan Company, Plant & Store Division | Sahuarita, AZ | No Import Increase and/or Production Shift Abroad.
98,095 | Rockwell Collins, Inc | Cedar Rapids, IA | No Import Increase and/or Production Shift Abroad.
98,102 | 1Concier | McCormick, SC | No Sales or Production Decline/Shift in Production (Domestic Transfer).
98,117 | Lear Corporation, Roscommon Plant | Roscommon, MI | No Import Increase and/or Production Shift Abroad.
98,143 | WSP USA Inc | New York, NY | Workers Do Not Produce an Article.
98,144 | Stoller USA, Inc | Cedar Rapids, IA | No Import Increase and/or Production Shift Abroad.
98,149 | Westinghouse Electric Company LLC | Cranberry Township, PA | Workers Do Not Produce an Article.
98,150 | Kenworth Truck Company | Chillicothe, OH | No Sales or Production Decline/Shift in Production (Domestic Transfer).
98,188 | Christian Anderson Companies, LLC | Eau Claire, WI | Workers Do Not Produce an Article.
98,199 | Anixter Inc., Inventory Non-Stock Buying Division | Woodbury, NY | Workers Do Not Produce an Article.
98,200 | Marketlink, Inc. DBA Allied Global | Coral Gables, FL | Workers Do Not Produce an Article.
98,202 | Clarivate, Content Retrieval Division | Philadelphia, PA | Workers Do Not Produce an Article.
98,210 | Alorica Inc | Newport News, VA | Workers Do Not Produce an Article.
98,214 | Carisbrook Technology Services, LLC | Wilsonville, OR | Workers Do Not Produce an Article.
98,223 | Silipint Partners, LLC | Bend, OR | No Sales or Production Decline/Shift in Production (Domestic Transfer).
98,225 | Xerox | Webster, NY | Workers Do Not Produce an Article.

Termination Determination on Reconsideration

The following termination determination on reconsideration have been issued.

TA-W-No. | Subject firm | Location | Reason(s)
96,655 | United States Steel Corporation | Ecorse, MI | Reconsideration Request Withdrawn.

Negative Determinations on Remand

In the following cases, negative determinations on remand have been issued because the eligibility criteria for TAA have not been met for the reason(s) specified.

TA-W-No. | Subject firm | Location | Reason(s)
94,578 | Michigan Bell Telephone Company | Kalamazoo, MI | No Shift in Services or Other Basis.
94,578A | Wisconsin Bell, Inc | Appleton, WI | No Shift in Services or Other Basis.
94,578B | Indiana Bell Telephone Company Incorporated | Indianapolis, IN | No Shift in Services or Other Basis.
94,578C | AT&T Services, Inc | Syracuse, NY | No Shift in Services or Other Basis.
94,578D | AT&T Services, Inc | Meridian, CT | No Shift in Services or Other Basis.

I hereby certify that the aforementioned determinations were issued during the period of March 1, 2022 through March 31, 2022. These determinations are available on the Department's website https://www.dol.gov/agencies/eta/tradeact under the searchable listing determinations or by calling the Office of Trade Adjustment Assistance toll free at 888-365-6822.

Signed at Washington, DC, this 8th day of April 2022.
Hope D. Kinglock,
Certifying Officer, Office of Trade Adjustment Assistance.

[FR Doc. 2022-08308 Filed 4-18-22; 8:45 am]

BILLING CODE 4510-FN-P